DEPARTMENT OF ENERGY

Federal Energy Regulatory Commission

Combined Notice of Filings #1

April 12, 2006.

Take notice that the Commission received the following electric reliability filings:

Docket Numbers: ER01-48-005.

Applicants: Powerex Corp.

Description: Powerex Corp submits a notice of change in status with respect to events that have taken place since the date of its last Change in Status Filing.

Filed Date: 03/31/2006.

Accession Number: 20060404-0129.

Comment Date: 5 p.m. eastern time on Friday, April 21, 2006.

Docket Numbers: ER06-509-001.

Applicants: PJM Interconnection, LLC.

Description: PJM Interconnection LLC submits additional information re the unexecuted Interconnection Service Agreement with Boone Heritage Wind Farm LLC and ComEd.

Filed Date: 03/28/2006.

Accession Number: 20060410-0096.

Comment Date: 5 p.m. eastern time on Monday, April 17, 2006.

Docket Numbers: ER06-745-001.

Applicants: MASSPOWER.

Description: MASSPOWER supplements its 3/16/06 filing to amend its application by withdrawing request for authority to sell reactive power services.

Filed Date: 03/30/2006.

Accession Number: 20060404-0011.

Comment Date: 5 p.m. eastern time on Thursday, April 20, 2006.

Docket Numbers: ER06-797-000.

Applicants: Xcel Energy Operating Services, Inc.

Description: Xcel Energy Services, Inc on behalf of Public Service Co of Colorado submits an Amended & Restated Agreement for Interconnection Service with Tri-State Generation and Transmission Association, Inc.

Filed Date: 03/29/2006.

Accession Number: 20060331-0163.

Comment Date: 5 p.m. eastern time on Wednesday, April 19, 2006.

Docket Numbers: ER06-799-001.

Applicants: Entergy Services Inc.

Description: Entergy Services Inc, acting as agent for Entergy Operating Companies submits an amendments to its 3/29/06 filing of an unexecuted Standard Large Generation Interconnection Agreement with Arkansas Electric Coop Corp.

Filed Date: 03/31/2006.

Accession Number: 20060404-0013.

Comment Date: 5 p.m. eastern time on Friday, April 21, 2006.

Docket Numbers: ER06-822-000.

Applicants: Fore River Development, LLC.

Description: Fore River Development, LLC submits its proposed FERC Electric Tariff, Original Volume No. 2 and supporting cost data specifying its revenue requirement for providing cost-based reliability services.

Filed Date: 03/31/2006.

Accession Number: 20060410-0126.

Comment Date: 5 p.m. eastern time on Friday, April 21, 2006.

Docket Numbers: ER06-823-000.

Applicants: Westar Energy, Inc.

Description: Westar Energy Inc submits a Notice of Cancellation of an Electric Power Supply Agreement with the City of Robinson, Kansas designated as Rate Schedule No. 233.

Filed Date: 03/31/2006.

Accession Number: 20060410-0093.

Comment Date: 5 p.m. eastern time on Friday, April 21, 2006

Docket Numbers: ER06-824-000.

Applicants: Boston Edison Company.

Description: Boston Edison Co submits a modification to Schedule 21-BECo of Section II of the Transmission Markets and Services Tariff of ISO New England Inc.

Filed Date: 04/03/2006.

Accession Number: 20060410-0092.

Comment Date: 5 p.m. eastern time on Monday, April 24, 2006.

Docket Numbers: ER06-825-000.

Applicants: American Electric Power Service Corp.

Description: American Electric Power Service Corp, agent for its affiliate Indian Michigan Power Co submits a second revision to the Interconnection & Local Delivery Service Agreement No. 1253 with Hoosier Energy Rural Electric Coop Inc.

Filed Date: 03/31/2006.

Accession Number: 20060410-0091.

Comment Date: 5 p.m. eastern time on Friday, April 21, 2006.

Docket Numbers: ER06-826-000.

Applicants: PJM Interconnection, LLC.

Description: PJM Interconnection LLC submits revisions to the PJM FERC Electric Tariff, Sixth Revised Volume No.1.

Filed Date: 04/03/2006.

Accession Number: 20060410-0090.

Comment Date: 5 p.m. eastern time on Monday, April 24, 2006.

Docket Numbers: ER06-827-000.

Applicants: Westar Energy, Inc.

Description: Westar Energy Inc submits Rate Schedule 302 with Missouri Joint Municipal Electric Utility Commission.

Filed Date: 04/03/2006.

Accession Number: 20060410-0089.

Comment Date: 5 p.m. eastern time Monday, April 24, 2006.

Docket Numbers: ER06-828-000.

Applicants: Westar Energy, Inc.

Description: Westar Energy, Inc submits Third Revised Sheet No. 11 of Second Revised Rate Schedule FERC No. 300.

Filed Date: 04/03/2006.

Accession Number: 20060410-0094.

Comment Date: 5 p.m. eastern time on Monday, April 24, 2006.

Docket Numbers: ER06-829-000.

Applicants: Westar Energy, Inc.

Description: Westar Energy Inc submits Second revised Sheet No. 11 of Rate Schedule 303.

Filed Date: 04/03/2006.

Accession Number: 20060410-0097.

Comment Date: 5 p.m. eastern time on Monday, April 24, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 6 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-6153 Filed 4-24-06; 8:45 am]

BILLING CODE 6717-01-P